DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget under the Paperwork Reduction Act of 1995. To request more information on the proposed project or to obtain a copy of the data collection plans and draft instruments, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including the use of automated collection techniques or other forms of information technology.

Proposed Project: The Nurse Faculty Loan Program (NFLP): Program Specific Data Form (NEW)

The Nurse Faculty Loan Program (NFLP) is authorized under Title VIII of the Public Health Service Act, Section 846A, as amended by the Nurse Reinvestment Act, Public Law 107-205 to increase the number of qualified nurse faculty. The HHS, acting through HRSA, may enter into an agreement with schools of nursing and make an award to establish and operate a distinct NFLP loan fund. The NFLP loan fund is used by the applicant School of Nursing to make loans to eligible students pursuing an advanced nursing degree program that will prepare the student to become qualified as a nursing faculty.

The NFLP Program Specific Data Form will capture program-related information provided by the applicant. NFLP applicants will complete and submit the Program Specific Data Form as an electronic attachment with the required application materials. The form will provide the Federal Government with specific data from the applicant to specify: (1) The amount of the Federal funds requested by the applicant, (2) the expected contribution from the applicant, (3) the student enrollment and graduation data based on current and prospective NFLP loan recipients, (4) the graduate nursing education programs supported under NFLP, (5) the program accreditation status, (6) the current tuition and fee information for graduate nursing education programs, and (7) the projected NFLP loan fund balance that may be considered as part of the award determination. The data provided in the form are essential for the formula-based criteria used to determine the award amount to the applicant schools. The new Program Specific Data Form will facilitate the current effort to develop an automated data collection capability for the NFLP. The electronic data collection capability will streamline the application submission process, enable an efficient award determination process, and serve as a data repository to facilitate reporting on the use of funds and analysis of program outcomes. Additionally, the data will be used to ensure programmatic compliance with the legislative authority and program guidance, to report program accomplishments to policy makers and Congress, and to formulate and justify the appropriation to the Office of Management and Budget and Congress.

The estimate of burden for this form is as follows:

Form | Number of respondents | Responses per respondent | Total responses | Hours per response | Total burden hours
Nurse Faculty Loan Program Annual Operating Report (AOR) | 150 | 1 | 150 | 8 hours | 1200 hours
Total Burden | 150 | 1 | 150 | 8 hours | 1200 hours

Send comments to Susan G. Queen, Ph.D., HRSA Reports Clearance Officer, Room 10-33, Parklawn Building, 5600 Fishers Lane, Rockville, MD 20857. Written comments should be received within 60 days of this notice.

Dated: March 20, 2008.
Alexandra Huttinger,
Director, Division of Policy Review and Coordination.

[FR Doc. E8-6224 Filed 3-26-08; 8:45 am]

BILLING CODE 4165-15-P